MERIT SYSTEMS PROTECTION BOARD

Notice of Opportunity To Submit Ideas for Merit Systems Studies

AGENCY: Merit Systems Protection Board.

ACTION: Notice.

SUMMARY: The U.S. Merit Systems Protection Board (MSPB) is updating its research agenda and seeks suggestions about possible topics of study.

DATES: Submissions are due July 1, 2019.

ADDRESSES: Submit ideas by mail to Research Agenda, U.S. Merit Systems Protection Board, Room 520, 1615 M Street NW, Washington, DC 20419; by fax to (202) 653-7211; or by email to researchagenda2020@mspb.gov; or via the feedback form at www.mspb.gov under “MSPB Studies,” which is the preferred method.

FOR FURTHER INFORMATION CONTACT: Doug Nierle at (202) 254-4516; or James Tsugawa at (202) 254-4506; or email researchagenda2020@mspb.gov.

SUPPLEMENTARY INFORMATION: MSPB conducts studies of the executive branch workforce to ensure that Federal personnel management is implemented consistent with the merit system principles and free from prohibited personnel practices. Most of those studies are drawn from a multi-year research agenda that MSPB develops after reviewing suggested topics from the public. For more information about MSPB studies, see www.mspb.gov/studies.

The public is invited to submit ideas to be considered for inclusion in MSPB's research agenda by responding to one or more of the following questions or submitting other pertinent ideas.

1. In your opinion, what is the most important issue affecting the management of the Federal workforce?

2. In your opinion, what is one thing in the Federal workplace that should be done more fairly?

3. In your opinion, what is one thing in the Federal workplace that should be done more efficiently or effectively?

4. There are several agencies and organizations involved in Federal workforce issues and policy, such as the U.S. Office of Personnel Management, the U.S. Government Accountability Office, the National Academy of Public Administration, and the Partnership for Public Service. In your opinion, what research could MSPB's Office of Policy and Evaluation conduct that would be distinct from the work of these and other agencies and organizations?

All submissions received may be posted, without change, to MSPB's website (www.mspb.gov) and may include any personal information you provide. Therefore, submitting this information makes it public. There is no requirement to include any personal information with your submission.

Jennifer Everling,
Acting Clerk of the Board.

[FR Doc. 2019-09991 Filed 5-14-19; 8:45 am]

BILLING CODE 7400-01-P